ENVIRONMENTAL PROTECTION AGENCY

[FRL-7964-4]

Notice of Final Decision To Grant Vickery Environmental, Incorporated a Modification of an Exemption From the Land Disposal Restrictions of the Hazardous and Solid Waste Amendments of 1984 Regarding Injection of Hazardous Wastes

AGENCY: Environmental Protection Agency (EPA).

ACTION: Notice of final decision on a request to modify an exemption from the Hazardous and Solid Waste Amendments of the Resource Conservation and Recovery Act.

SUMMARY: Notice is hereby given by the Environmental Protection Agency (EPA or Agency) that a modification of an exemption to the land disposal restrictions under the 1984 Hazardous and Solid Waste Amendments to the Resource Conservation and Recovery Act (RCRA) has been granted to Vickery Environmental, Inc. (VEI) of Vickery, Ohio. This modification allows VEI to continue to inject RCRA-regulated hazardous wastes designated as K181 wastes which will be banned from land disposal on August 23, 2005, as a result of regulations promulgated in the Federal Register (FR) on February 24, 2005 (70 FR 9138 et seq.) into four Class I injection wells at the Vickery, Ohio, facility. As required by 40 CFR part 148, VEI has demonstrated, to a reasonable degree of certainty, that there will be no migration of hazardous constituents from the injection zone utilized by VEI's waste disposal facility located near Vickery, Ohio, for as long as the newly-exempted waste remains hazardous. This decision constitutes a final Agency action for which there is no administrative appeal.

DATES: This action is effective as of August 23, 2005.

FOR FURTHER INFORMATION CONTACT: Harlan Gerrish, Lead Petition Reviewer, USEPA, Region 5, telephone (312) 886-2939. Copies of the petition and all related pertinent information are on file and are part of the Administrative Record. It is recommended that you contact the lead reviewer prior to reviewing the Administrative record.

SUPPLEMENTARY INFORMATION:

I. Background

Chemical Waste Management (CWM), the predecessor of VEI, submitted a petition for an exemption from the restrictions on land disposal of hazardous wastes on January 19, 1988. Revised documents were received on December 4, 1989, and several supplemental submittals were subsequently made. The exemption was granted on August 7, 1990. On September 12, 1994, CWM submitted a petition to modify the exemption to include wastes bearing 23 additional RCRA wastes codes. Region 5 reviewed documents supporting the request and granted the modification of the exemption on May 16, 1995. A notice of the modification appeared on June 5, 1995, at 60 FR 29592 et seq. On April 9, 1996, CWM submitted a petition to again modify the exemption to allow 91 additional RCRA waste codes. Region 5 reviewed documents supporting the request and granted the modification on the exemption on June 24, 1996. A notice of the modification appeared on July 15, 1996, at 61 FR 36880 et seq. Again on May 13, 1997, CWM submitted a request to add 11 waste codes to the list. Region 5 reviewed the evidence submitted by CWM and granted the request. Notice of the approval appeared on August 12, 1997 (63 FR 43109). On October 13, 1997, CWM notified the EPA that the name of the operator of the Vickery facility would become Waste Management of Ohio (WMO). This change was acknowledged by EPA through a letter added to the Administrative Record on November 10, 1997. On August 28, 1998, WMO requested that two additional wastes codes be approved for injection. Notice of the approval appeared on December 10, 1998 (63 FR 68284). In the same year, on November 5, 1998, WMO submitted a petition to exempt four additional waste codes. Approval of this petition appeared on February 10, 1999 (64 FR 6650). On January 24, 2000, Waste Management of Ohio informed EPA of a corporate reorganization and subsequent name change from Waste Management of Ohio to Vickery Environmental, Inc. This change was acknowledged by EPA through a letter added to the Administrative Record on March 9, 2000. On March 20, 2001, VEI requested that two wastes, designated as K174 and K175, be added to the list of wastes exempted for injection at VEI. This request was approved on May 23, 2001, and notice of the request appeared in the Federal Register on April 25, 2001 (66 FR 28464-28466). On January 31, 2002, WMO requested that four additional wastes codes be approved for injection. Notice of the approval appeared on April 29, 2004 (67 FR 20971).

The rule promulgated on February 24, 2005, bans K181 from injection after August 23, 2005, unless VEI's exemption is modified to allow injection of this waste. As a K-coded waste, the code represents a number of chemicals. Some of these have already been approved for injection at Vickery under other waste codes. VEI estimated diffusion rates for constituents not previously approved for injection using a method which Region 5 has previously accepted. The diffusion rates are lower than that of the chloride ion, the diffusion rate of which was used to define the edge of the waste plume at VEI. After review of the material submitted and verification of the calculations of diffusion rate, the EPA has determined, as required by 40 CFR 148.20(f), that there is a reasonable degree of certainty that the hazardous constituents contained in the waste bearing the code to be banned will behave hydraulically and chemically like wastes for which VEI was granted its original exemption and will not migrate from the injection zone in hazardous concentrations within 10,000 years. The injection zone is the Mt. Simon Sandstone and the Rome, Conasauga, Kerbel, and Knox Formations. The confining zone is comprised of the Wells Creek and Black River Formations.

List of RCRA Waste Codes Approved for Injection:
D001 | F009 | K033 | K112 | P011 | P070 | P191 | U042 | U095 | U148 | U203 | U375
D002 | F010 | K034 | K113 | P012 | P071 | P192 | U043 | U096 | U149 | U204 | U376
D003 | F011 | K035 | K114 | P013 | P072 | P194 | U044 | U097 | U150 | U205 | U377
D004 | F012 | K036 | K115 | P014 | P073 | P196 | U045 | U098 | U151 | U206 | U378
D005 | F019 | K037 | K116 | P015 | P074 | P197 | U046 | U099 | U152 | U207 | U379
D006 | F020 | K038 | K117 | P016 | P075 | P198 | U047 | U101 | U153 | U208 | U381
D007 | F021 | K039 | K118 | P017 | P076 | P199 | U048 | U102 | U154 | U209 | U382
D008 | F022 | K040 | K123 | P018 | P077 | P201 | U049 | U103 | U155 | U210 | U383
D009 | F023 | K041 | K124 | P020 | P078 | P202 | U050 | U105 | U156 | U211 | U384
D010 | F024 | K042 | K125 | P021 | P081 | P203 | U051 | U106 | U157 | U213 | U385
D011 | F025 | K043 | K126 | P022 | P082 | P204 | U052 | U107 | U158 | U214 | U386
D012 | F026 | K044 | K131 | P023 | P084 | P205 | U053 | U108 | U159 | U215 | U387
D013 | F027 | K045 | K132 | P024 | P085 | U001 | U055 | U109 | U160 | U216 | U389
D014 | F028 | K046 | K136 | P026 | P087 | U002 | U056 | U110 | U161 | U217 | U390
D015 | F032 | K047 | K140 | P027 | P088 | U003 | U057 | U111 | U162 | U218 | U391
D016 | F034 | K048 | K141 | P028 | P089 | U004 | U058 | U112 | U163 | U219 | U392
D017 | F035 | K049 | K142 | P029 | P092 | U005 | U059 | U113 | U164 | U220 | U393
D018 | F037 | K050 | K143 | P030 | P093 | U006 | U060 | U114 | U165 | U221 | U394
D019 | F038 | K051 | K144 | P031 | P094 | U007 | U061 | U115 | U166 | U222 | U395
D020 | F039 | K052 | K145 | P033 | P095 | U008 | U062 | U116 | U167 | U223 | U396
D021 | K001 | K060 | K147 | P034 | P096 | U009 | U063 | U117 | U168 | U225 | U400
D022 | K002 | K061 | K148 | P036 | P097 | U010 | U064 | U118 | U169 | U226 | U401
D023 | K003 | K062 | K149 | P037 | P098 | U011 | U066 | U119 | U170 | U227 | U402
D024 | K004 | K069 | K150 | P038 | P099 | U012 | U067 | U120 | U171 | U228 | U403
D025 | K005 | K071 | K151 | P039 | P101 | U014 | U068 | U121 | U172 | U234 | U404
D026 | K006 | K073 | K156 | P040 | P102 | U015 | U069 | U122 | U173 | U235 | U407
D027 | K007 | K083 | K157 | P041 | P103 | U016 | U070 | U123 | U174 | U236 | U408
D028 | K008 | K084 | K158 | P042 | P104 | U017 | U071 | U124 | U176 | U237 | U409
D029 | K009 | K085 | K159 | P043 | P105 | U018 | U072 | U125 | U177 | U238 | U410
D030 | K010 | K086 | K160 | P044 | P106 | U019 | U073 | U126 | U178 | U239 | U411
D031 | K011 | K087 | K161 | P045 | P108 | U020 | U074 | U127 | U179 | U240
D032 | K013 | K088 | K169 | P046 | P109 | U021 | U075 | U128 | U180 | U243
D033 | K014 | K093 | K170 | P047 | P110 | U022 | U076 | U129 | U181 | U244
D034 | K015 | K094 | K171 | P048 | P111 | U023 | U077 | U130 | U182 | U246
D035 | K016 | K095 | K172 | P049 | P112 | U024 | U078 | U131 | U183 | U247
D036 | K017 | K096 | K174 | P050 | P113 | U025 | U079 | U132 | U184 | U248
D037 | K018 | K097 | K175 | P051 | P114 | U026 | U080 | U133 | U185 | U249
D038 | K019 | K098 | K176 | P054 | P115 | U027 | U081 | U134 | U186 | U271
D039 | K020 | K099 | K177 | P056 | P116 | U028 | U082 | U135 | U187 | U277
D040 | K021 | K100 | K178 | P057 | P118 | U029 | U083 | U136 | U188 | U278
D041 | K022 | K101 | K181 | P058 | P119 | U030 | U084 | U137 | U189 | U279
D042 | K023 | K102 | P001 | P059 | P120 | U031 | U085 | U138 | U190 | U280
D043 | K024 | K103 | P002 | P060 | P121 | U032 | U086 | U139 | U191 | U328
F001 | K025 | K104 | P003 | P062 | P122 | U033 | U087 | U140 | U192 | U353
F002 | K026 | K105 | P004 | P063 | P123 | U034 | U088 | U141 | U193 | U359
F003 | K027 | K106 | P005 | P064 | P127 | U035 | U089 | U142 | U194 | U364
F004 | K028 | K107 | P006 | P065 | P128 | U036 | U090 | U143 | U196 | U365
F005 | K029 | K108 | P007 | P066 | P185 | U037 | U091 | U144 | U197 | U366
F006 | K030 | K109 | P008 | P067 | P188 | U038 | U092 | U145 | U200 | U367
F007 | K031 | K110 | P009 | P068 | P189 | U039 | U093 | U146 | U201 | U372
F008 | K032 | K111 | P010 | P069 | P190 | U041 | U094 | U147 | U202 | U373

II. Conditions

General conditions of this exemption are found at 40 CFR part 148. The exemption granted to VEI on August 7, 1990, included a number of specific conditions. Conditions numbered (1), (2), (3), (4), and (9) remain in force. Construction of a monitoring well required under condition 5 has been completed, and the required monitoring will continue through the life of the facility. Conditions numbered (6), (7), and (8) have been fully satisfied. The results of the work carried out under these conditions confirms that the model used to simulate fluid movement within the injection zone for the next 10,000 years is valid and results of the simulation bound the region of the injection zone within which the waste will be contained.

Jo Lynn Traub,
Director, Water Division, Region 5.

[FR Doc. 05-17434 Filed 8-31-05; 8:45 am]

BILLING CODE 6560-50-P